DEPARTMENT OF ENERGY

Federal Energy Regulatory Commission

[Docket Nos. CP04-374-000; CP04-375-000; CP04-376-000]

Pearl Crossing Pipeline, L.L.C.; Notice of Public Meeting

August 24, 2004.

On August 30 and 31, 2004, the staff of the Office of Energy Projects (OEP) will attend the U.S. Coast Guard's open house and public meeting for the Pearl Crossing Pipeline, L.L.C. (Pearl Crossing) project located in Cameron and Calcasieu counties, Louisiana. Each meeting will consist of an informational open house, from 3 p.m. to 4:30 p.m. (c.s.t.), and a public scoping meeting, from 5 p.m. to 7 p.m. (c.s.t). The meeting locations are as follows:

August 30, 2004, Lake Charles Civic Center, Contraband Room, 900 Lakeshore Drive, Lake Charles, Louisiana 70602, (337) 491-1256;

August 31, 2004, Thomen Community Center, 1413 North 20th Street, Orange, Texas 77630, (409) 883-1017.

All interested parties may attend. For additional information, contact the Commission's Office of External Affairs at 866-208-FERC (3372).

Magalie R. Salas,
Secretary.

[FR Doc. E4-2032 Filed 9-1-04; 8:45 am]

BILLING CODE 6717-01-P